DEPARTMENT OF VETERANS AFFAIRS

Advisory Committee on Women Veterans, Notice of Meeting

The Department of Veterans Affairs gives notice under Public Law 92-463 that a meeting of the Advisory Committee on Women Veterans will be held on March 13 and 14, 2001, from 8:30 a.m. until 5:00 p.m., in conference room 230, and March 15, 2001, from 9:00 a.m. until 1:00 p.m., in conference room 830. All meetings will be held at the Department of Veterans Affairs, 810 Vermont Avenue, NW, Washington, DC.

The purpose of the Committee is to advise the Secretary of Veterans Affairs regarding the needs of women veterans with respect to health care, rehabilitation, compensation, outreach, and other programs and activities administered by the Department of Veterans Affairs designed to meet such needs. The Committee will make recommendations to the Secretary regarding such activities.

All sessions will be open to the public. Those who plan to attend should contact Ms. Maryanne Carson, Department of Veterans Affairs, Center for Women Veterans, 810 Vermont Avenue, NW, Washington, DC 20420, at (202) 273-6193. Tentative agenda follows:

Tuesday, March 13

8:30a Welcome and Introduction of New Member Ms. Joan Furey, Director, Center for Women Veterans

8:45a Review of Agenda, Karen Ray, Col., USA (Ret), Chair

9:00a Presentation of Appointment Certificate and Remarks, The Honorable Anthony Principi, Secretary of Veterans Affairs (tentative)

9:30a Review of 2000 Report

10:00a Break

10:30a Briefing: The Compensation and Pension Process, Veterans Benefits Administration

12:00p Lunch

1:30p Briefing: VA's Transition Assistance Program, Veterans Benefits Administration

2:45p Break

3:00p Briefing: Board of Veterans Appeals

4:15p General Discussion: Committee

5:00p Adjourn

Wednesday, March 14

8:30a Briefing: Center for Women Veterans, Ms. Furey

9:15a Briefings: National Strategic Work Group Study and Women Veterans Coordinator Study, Ms. Carole Turner, Director, Women Veterans Health Program

10:30a Break

10:45a Briefing: Women Veterans Homeless Initiative, Mrs. Gay Koerber, Associate Chief Consultant, Homeless Programs; Mrs. Josephine Hawkins, Program Analyst

11:30p General Discussion: Committee

12:00p Lunch

1:30p Briefing: Legislative Issues and Congressional Affairs, Office of General Counsel

2:30p Briefing: VA and Tricare (tentative)

3:15p Break

4:00p General Discussion: Committee

5:00p Adjourn

Thursday, March 15

9:00a Committee: FY 2001 Report

• Subcommittee Assignments

• Timeline

• General Issues

10:00a Break

10:30a June Site Visit—General Discussion

11:00a Other Issues: Committee

1:00p Adjourn

Dated: February 9, 2001.
By Direction of the Secretary.
Ventris C. Gibson,
Committee Management Officer.

[FR Doc. 01-4571 Filed 2-23-01; 8:45 am]

BILLING CODE 8320-01-M